DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

BNSF Railway and Norfolk Southern Railway (Docket Number FRA-2009-0088)

The BNSF Railway (BNSF) and Norfolk Southern Railway (NS), two Class 1 Railroads, petitioned FRA for a waiver of compliance from certain provisions prescribed by CFR § 232.607 Inspection and testing requirements [73 FR 61554, October 16, 2008].

The requirement specifically limits movement of Electronically Controlled Pneumatic (ECP) brake trains to 3,500 miles between Class 1 initial terminal brake inspections. BNSF and NS request relief to allow for the implementation of ECP trains on a joint pilot project from Plant Scherer, located near Macon, Georgia, to the Powder River Basin and return to origin. However, this move exceeds the 3,500 mile limit granted under CFR § 232.607. The joint BNSF/NS move from Plant Scherer to Thunder Junction, Wyoming, and return to Macon, is a loop ranging from 4200 to 4710 miles.

The five proposed routes are (one way):

• Route 1: Thunder Jct.—Alliance—Kansas City—Memphis—Chattanooga—Scherer = 2100 miles.

• Route 2: Thunder Jct.—Alliance—Kansas City—St. Louis—Chattanooga—Scherer = 2150 miles.

• Route 3: Thunder Jct.—Denver—Amarillo—Springfield—Memphis—Chattanooga—Scherer = 2238 miles.

• Route 4: Thunder Jct.—Denver—Kansas City—Springfield—Memphis—Chattanooga—Scherer = 2115 miles.

• Route 5: Thunder Jct.—Denver—Amarillo—Springfield—Memphis—Birmingham—Chattanooga—Scherer = 2355 miles.

All required inspections and brake tests, as outlined in CFR Part 232, subpart G, will be performed at Plant Scherer by Qualified Maintenance Personnel. The petitioners state in their request the extended distance traveled by these select trains will not have an adverse effect on safety. They also state that over the past 21 months, ECP trains have been operating at a greater level of safety than conventional trains.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2009-0088) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on September 21, 2009.
Grady C. Cothen, Jr.,
Deputy Associate Administrator for Safety Standards and Program Development.

[FR Doc. E9-23201 Filed 9-24-09; 8:45 am]

BILLING CODE 4910-06-P